DEPARTMENT OF TRANSPORTATION

Federal Transit Administration

Over-the-Road Bus Accessibility Program Grants

AGENCY: Federal Transit Administration (FTA), DOT.

ACTION: Notice of Availability of Fiscal Year 2012 Funds: Solicitation of Grant Proposals.

Funds: Notice of funding availability: Solicitation of project proposals.

SUMMARY: The U.S. Department of Transportation's (DOT) Federal Transit Administration (FTA) announces the availability of funds in Fiscal Year (FY) 2012 for the Over-the-Road Bus Accessibility (OTRB) Program, initially authorized by Section 3038 of the Transportation Equity Act for the 21st Century (TEA-21). The OTRB program makes funds available to private operators of over-the-road buses to finance the incremental capital and training costs of complying with DOT's over-the-road bus accessibility regulation. The authorizing legislation calls for national solicitation of proposals, with grantees to be selected on a competitive basis. Program funds are available to intercity fixed-route providers and other OTRB providers at up to 90 percent of the project cost.

The Surface and Air Transportation Programs Extension Act of 2011, Public Law 112-30, continues the authorization of the Federal transit programs of the U.S. Department of Transportation (DOT) through March 31, 2012, and provides contract authority for this program equal to approximately one half of the amounts available in FY 2011. Approximately $8.8 million is expected to be available for the OTRB program discretionary allocation and may include other discretionary program funds that become available. The total amount of funding available will be contingent on Congressional authorization and appropriation prior to the selection of awardees, and based on the timing of such funding becoming available, may also include funding appropriated for Fiscal Year 2013.

DATES: Complete proposals for the OTRB program announced in this Notice must be submitted by 11:59 p.m. EDT on June 7, 2012. All proposals must be submitted electronically through the APPLY function at http://www.grants.gov. Any applicant intending to apply should initiate the process of registering on the GRANTS.GOV site immediately to ensure completion of registration before the submission deadline. Instructions for applying can be found on FTA's Web site at http://www.fta.dot.gov/otrb and in the “FIND” module of GRANTS.GOV. FTA may announce grant selections in the Federal Register when the competitive selection process is complete.

FOR FURTHER INFORMATION CONTACT: Contact the appropriate FTA Regional Office found at http://www.fta.dot.gov for proposal-specific information and issues. For general program questions, contact Blenda Younger, Office of Program Management, (202) 366-4345, email: blenda.younger@dot.gov. A TDD is available at 1-800-877-8339 (TDD/FIRS).

SUPPLEMENTARY INFORMATION:

Table of Contents

I. Overview

II. Program Purpose

III. Program Information

A. Award Information

B. Eligible Applicants

C. Eligible Projects

D. Cost Sharing and Matching

IV. Proposal and Submission Information

V. Evaluation Criteria

VI. Award Administration Information

VII. Agency Contacts

I. Overview

A. Authority

The program is authorized under Title 49, United States Code, Section 5338(a)(1)(c)(ii), as amended.

B. Background

OTRBs are used in intercity fixed-route service as well as other services, such as commuter, charter, and tour bus services. These services are an important element of the U.S. transportation system. TEA-21 authorized the OTRB program to assist OTRB operators in complying with the Department's OTRB Accessibility regulation, “Transportation for Individuals with Disabilities” (49 CFR part 37, subpart H).

Under the OTRB Accessibility regulation, all new buses obtained by large (Class I carriers, i.e., those with gross annual transportation revenues of $8.7 million or more) fixed-route carriers after October 30, 2000, must be accessible, with wheelchair lifts and tie-downs that allow passengers to ride in their own wheelchairs. The rule required 50 percent of the fixed-route operators fleets to be accessible by 2006, and 100 percent of the vehicles in their fleets to be accessible by October 29, 2012. New buses acquired by small (gross transportation revenues of less than $8.7 million annually) fixed-route operators after October 29, 2001, also are required to be lift-equipped, although they do not have a deadline for total fleet accessibility. Small operators also can provide equivalent service in lieu of obtaining accessible buses. Starting in 2001, charter and tour companies must provide service in an accessible bus on 48 hours advance notice. Fixed-route operators must also provide this kind of service on an interim basis until their fleets are completely accessible.

Operators should consult 49 CFR part 37, subpart H, regarding the acquisition of accessible vehicles and the provision of accessible service to determine the applicable section that best describes their operating characteristics. Specifications describing the design features of an accessible over-the-road bus are listed in 49 CFR part 38, subpart G.

II. Program Purpose

The purpose of the OTRB program is to improve mobility by ensuring that the transportation system is accessible, integrated, and efficient, and offers flexibility of choices. OTRB projects will improve mobility for individuals with disabilities by providing financial assistance to help make vehicles accessible. The program will also provide training to ensure drivers and others are properly trained to use accessibility features. Sensitivity training for serving patrons with disabilities is also included.

Vehicle and Service Definitions

An “over-the-road bus” is defined in 49 CFR 37.3 as a bus characterized by an elevated passenger deck located over a baggage compartment.

Intercity, fixed-route over-the-road bus service is regularly scheduled bus service for the general public, using an OTRB that operates with limited stops over fixed routes connecting two or more urban areas not in close proximity or connecting one or more rural communities with an urban area not in close proximity; has the capacity for transporting baggage carried by passengers; and makes meaningful connections with scheduled intercity bus service to more distant points. The application includes six factors that will be reviewed to determine eligibility for a portion of the funding available to operators that qualify under this definition.

“Other” OTRB service means any other transportation using OTRBs, including local fixed-route service, commuter service, and charter or tour service (including tour or excursion service that includes features in addition to bus transportation such as meals, lodging, admission to points of interest or special attractions). While some commuter service may also serve the needs of some intercity fixed-route passengers, the statute includes commuter service in the definition of “other” service. Commuter service providers may apply for these funds, even though the services designed to meet the needs of commuters may also provide service to intercity fixed-route passengers on an incidental basis. If a commuter service provider can document that more than 50 percent of its passengers are using the service as intercity fixed-route service, the provider may apply for the funds designated for intercity fixed-route operators.

III. Program Information

A. Award Information

Federal transit funds are available to intercity fixed-route providers and other OTRB providers at up to 90 percent of the project cost. A total of $8,800,000 is expected to be available for the program in FY 2012. Successful applicants will be awarded grants. Typical grants under this program range from $25,000 to $180,000, with most grants being less than $40,000, for lift equipment for a single vehicle.

B. Eligible Applicants

Grants will be made directly to operators of over-the-road buses. Intercity, fixed-route OTRB service providers may apply for the funds appropriated for intercity fixed-route providers in FY 2012. Applicants must establish eligibility as intercity fixed-route providers by meeting six factors identified in the application. Other OTRB service providers, including operators of local fixed-route service, commuter service, and charter or tour service may apply for the funds that were appropriated in FY 2012 for these providers. OTRB operators who provide both intercity, fixed-route service and another type of service, such as commuter, charter or tour, may apply for both categories of funds with a single application. Private for-profit operators of over-the-road buses are eligible to be direct applicants for this program. This is a departure from most other FTA programs for which the direct applicant must be a State or local public body. FTA does not award grants to public entities under this program.

Section 50 of FTA's Master Agreement, titled “Special Provisions for Over-the-Road Bus Accessibility Projects,” incorporates the U.S. Department of Transportation's regulations implementing the Americans with Disabilities Act of 1990 (49 CFR part 37). Section 37.213 of the implementing regulation requires private OTRB operators to file annual submissions with the Federal Motor Carrier Safety Administration's (FMCSA) Office of Data Analysis and Administration. Because compliance with all applicable Federal laws is a term and condition of grant eligibility, applicants who are not in compliance with the FMCSA filing requirements will be ineligible to participate in this program.

C. Eligible Projects

Projects to finance the incremental capital and training costs of complying with DOT's OTRB accessibility rule (49 CFR Part 37) are eligible for funding. Incremental capital costs eligible for funding include adding lifts, tie-downs, moveable seats, doors and training costs associated with using the accessibility features and serving persons with disabilities. Retrofitting vehicles with such accessibility components is also an eligible expense. Please see Buy America section for further conditions of eligibility.

FTA may award funds for costs already incurred by the applicants. Any new wheelchair accessible vehicles delivered after June 8, 1998, the date that the TEA-21 became effective, are eligible for funding under the program. Vehicles of any age that have been retrofitted with lifts and other accessibility components after June 8, 1998, are also eligible for funding.

Eligible training costs are those required by the final accessibility rule as described in 49 CFR 37.209. These activities include training in proper operation and maintenance of accessibility features and equipment, boarding assistance, securement of mobility aids, sensitive and appropriate interaction with passengers with disabilities, and handling and storage of mobility devices. The costs associated with developing training materials or providing training for local providers of OTRB services for these purposes are also eligible expenses.

FTA will not fund the incremental costs of acquiring used accessible OTRBs that were previously owned, as it may be impossible to verify whether or not FTA funds were already used to make the vehicles accessible. Also, it would be difficult to place a value on the accessibility features based upon the depreciated value of the vehicle. The legislative intent of this grant program is to increase the number of wheelchair accessible OTRBs available to persons with disabilities throughout the country. The purchase of previously-owned accessible vehicles, whether or not they were funded by FTA, does not further this objective.

FTA has sponsored the development of accessibility training materials for public transit operators. FTA-funded Project ACTION is a national technical assistance program to promote cooperation between the disability community and the transportation industry. Project ACTION provides training, resources and technical assistance to thousands of disability organizations, consumers with disabilities, and transportation operators. It maintains a resource center with up-to-date information on transportation accessibility. Project ACTION may be contacted at: Project ACTION, 1425 K Street NW., Suite 200, Washington, DC 20005, Phone: 1-800-659-6428 (TDD: (202) 347-7385), Internet address: http://www.projectaction.org/.

D. Cost Sharing and Matching

Federal transit funds are available to intercity fixed-route providers and other OTRB providers at up to 90 percent of the project cost. A 10 percent local match is required.

IV. Proposal and Submission Information

A. Proposal Submission Process

Project proposals must be submitted electronically through http://www.GRANTS.GOV by 11:59 p.m. EDT on June 7, 2012. Mail and fax submissions will not be accepted.

A complete proposal submission will consist of at least two files: (1) The SF 424 Mandatory form (downloaded from GRANTS.GOV) and (2) the OTRB supplemental form found on the FTA Web site at http://www.fta.dot.gov/otrb.

The supplemental form provides guidance and a consistent format for proposers to respond to the criteria outlined in this Notice of Funding Availability (NOFA). Once completed, the supplemental form must be placed in the attachments section of the SF 424 Mandatory form. Proposers must use the supplemental form and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation or incomplete materials, as described in the notice, and resubmit before the submission deadline. If making a resubmission for any reason, include all original attachments regardless of which attachments are updated, and check the box on the supplemental form indicating this is a resubmission.

Complete instructions on the application process can be found at http://www.fta.dot.gov/otrb. Important: FTA urges proposers to submit their proposals at least 72 hours prior to the due date to allow time to receive the validation message and to correct any problems that may have caused a rejection notification. Submissions after the stated submission deadlines will not be accepted. GRANTS.GOV scheduled maintenance and outage times are announced on the GRANTS.GOV Web site http://www.GRANTS.GOV. The deadline will not be extended due to scheduled maintenance or outages.

Proposers may submit one proposal for each project or one proposal containing multiple projects. Proposers submitting multiple projects in one proposal must be sure to clearly define each project by completing a supplemental form for each project. Supplemental forms must be added within the proposal by clicking the “add project” button in Section II of the supplemental form.

B. Application Guidelines

The proposal should provide information on all items for which you are requesting funding in FY 2012. If you use another company's previous proposal as a guide, remember to modify all elements as appropriate to reflect your company's situation. The proposal must include a brief project narrative in the Standard Form 424, “Application for Federal Assistance”, and a more substantive narrative, in the Project Executive Summary, in the Supplemental FTA form. The following information must be included in the supplemental forms for all requests for OTRB funding.

C. Proposal Content

1. Applicant Information

This addresses basic identifying information, including:

i. Company name.

ii. Dun and Bradstreet (D&B) Data Universal Numbering System (DUNS) number.

iii. Contact information for notification of project selection: Contact name, address, email address, fax and phone number.

iv. Description of services provided by company, including areas served.

v. For fixed-route carriers, whether you are a large (Class I, with gross annual transportation revenues of $8.7 million or more) or small (gross transportation revenues of less than $8.7 million annually) carrier.

vi. Existing fleet and employee information, including number of over-the-road buses used for (1) intercity fixed-route service, and (2) other service, and number of employees.

vii. If you provide both intercity fixed-route service and another type of service, such as commuter, charter or tour service, please provide an estimate of the proportion of your service that is intercity.

viii. Description of your technical, legal, and financial capacity to implement the proposed project. Include evidence that you currently possess appropriate operating authority (e.g., DOT number if you operate interstate or identifier assigned by State if you do not operate interstate service).

2. Project Information

Every proposal must:

i. Provide the Federal amount requested for each purpose for which funds are sought.

ii. Document matching funds, including amount and source.

iii. Describe project, including components to be funded (e.g., lifts, tie-downs, moveable seats, or training).

iv. Provide project timeline, including significant milestones such as date or contract for purchase of vehicle(s), and actual or expected delivery date of vehicles.

v. Address each of the five statutory evaluation criteria described in Section V.

vi. If requesting funding for intercity service, provide evidence that:

a. The applicant provides scheduled, intercity, fixed route, over-the-road bus service that interlines with one or more scheduled, intercity bus operators. (Such evidence includes applicant's membership in the National Bus Traffic Association or participation in separate interline agreements, and participation in interline tariffs or price lists issued by, or on behalf of, scheduled, intercity bus operators with whom the applicant interlines); and

b. The applicant has obtained authority from the Federal Motor Carrier Safety Administration or the Interstate Commerce Commission to operate scheduled, intercity, fixed route service; and as many of the following as are applicable;

c. The applicant is included in Russell's Official National Motor Coach Guide showing that it provides regularly scheduled, fixed route OTRB service with meaningful connections with scheduled intercity bus service to more distant points.

d. The applicant maintains a Web site showing routes and schedules of its regularly scheduled, fixed route OTRB service and its meaningful connections to other scheduled, intercity bus service.

e. The applicant maintains published schedules showing its regularly scheduled, fixed route OTRB service and its meaningful connections to other scheduled, intercity bus service.

f. The applicant participates in the International Registration Plan (IRP) apportionment program.

3. Labor Information

The Applicant agrees to comply with the terms and conditions of the Special Warranty for the Over-the-Road Bus Accessibility program that is most current as of the date of execution of the Grant Agreement or Cooperative Agreement for the project, and any alternative comparable arrangements specified by U.S. Department of Labor (DOL) for application to the Applicant's project, in accordance with DOL guidelines, “Section 5333(b), Federal Transit Law,” 29 CFR part 215, and any revisions thereto. Any DOL Special Warranty that may be provided and any documents cited therein are incorporated by reference and made part of the Grant Agreement. Additional information regarding grants that require referral can be found on DOL's Web site: https://www.dol.gov/esa/olms/regs/compliance/redesign_2006/redesign2006_transitemplprotect.htm.

D. Intergovernmental Review

This program is not generally subject to Executive Order (EO) 12372, “Intergovernmental Review of Federal Programs.” For more information, contact the State's Single Point of Contact (SPOC) to find out about and comply with the State's process under EO 12372. The names and addresses of the SPOCs are listed in the Office of Management and Budget's homepage at http://www.whitehouse.gov/omb/grants/spoc.html.

E. Funding Restrictions

Only proposals from eligible recipients for eligible activities will be considered for funding. Due to funding limitations, applicants that are selected for funding may receive less than the amount requested. FTA intends to fund as many meritorious projects as possible. In addition, geographic diversity may be considered in FTA's award decisions. FTA may also consider other factors, such as the size of the applicant's fleet and the level of FTA funding previously awarded to applicants in prior years. Applicants will not be considered for funding as intercity fixed-route operators unless they satisfy, at a minimum, the first two factors and at least one of factors three through six listed in the Project Information section of the application; these factors are applicable to intercity fixed-route applicants.

V. Evaluation Criteria

Projects will be evaluated according to the following criteria:

1. The identified need for OTRB accessibility for persons with disabilities in the areas served by the applicant.

2. The extent to which the applicant demonstrated innovative strategies and financial commitment to providing access to OTRBs to persons with disabilities.

3. The extent to which the OTRB operator acquired equipment required by DOT's over-the-road bus accessibility rule prior to the required time-frame in the rule.

4. The extent to which financing the costs of complying with DOT's rule presents a financial hardship for the applicant.

5. The impact of accessibility requirements on the continuation of OTRB service with particular consideration of the impact of the requirements on service to rural areas and for low-income individuals.

VI. Award Administration Information

A. Review and Selection Process

In addition to other FTA staff that may review the proposals, a technical evaluation committee will review proposals under the project evaluation criteria. Members of the technical evaluation committee and other involved FTA staff reserve the right to screen and rate the proposals it receives and to seek clarification from any applicant about any statement in its application that FTA finds ambiguous and/or request additional documentation to be considered during the evaluation process to clarify information contained within the proposal.

After consideration of the findings of the technical evaluation committee, the FTA Administrator will determine the final selection and amount of funding for each project. FTA expects to announce the selected projects and notify successful applicants in August 2012.

Once successful applicants are announced, they will work with the appropriate Regional office to develop a grant application consistent with the selected proposal in FTA's Transportation Electronic Award Management System (TEAM).

Incomplete or non-responsive applications will be disqualified. Applicants that do not qualify as intercity-fixed route operators may be considered for funding in the “other” category using the same application. FTA will make an effort to award every qualified applicant at least one lift, and, may consider the percentage of fleet currently accessible when reviewing proposals.

B. Administrative and National Policy Requirements

1. Grant Requirements

Applicants selected for funding must include documentation necessary to meet the requirements of FTA's Nonurbanized Area Formula program (Title 49, United States Code, Section 5311). Technical assistance regarding these requirements is available from each FTA regional office. The regional offices will contact those applicants selected for funding regarding procedures for making the required certifications and assurances to FTA before grants are made.

The authority for these requirements is provided by TEA-21, Public Law 105-178, June 9, 1998, as amended by the TEA-21 Restoration Act 105-206, 112 Stat. 685, July 22, 1998; 49 U.S.C. Section 5310, note; and DOT and FTA regulations and FTA Circulars.

2. Buy America

Under the OTRB Accessibility Grant Program, FTA's Buy America regulations, 49 CFR part 661, apply to the incremental capital costs of making vehicles accessible.

Generally, Buy America applies to all accessibility equipment acquired with FTA funds, i.e., all of the manufacturing processes for the product take place in the United States. The lift, the moveable seats, and the securement devices will each be considered components for purposes of this program; accordingly, as components, each must be manufactured in the United States regardless of the origin of its respective subcomponents.

It should also be noted that FTA has issued a general public interest waiver for all purchases under the Federal “small purchase” threshold, which is currently $100,000. (See 49 CFR 661.7, Appendix A (e)). Because Section 3038(b) of TEA-21, limited FTA financing to the incremental capital costs of compliance with DOT's OTRB accessibility rule, the small purchase waiver applies only to the incremental cost of the accessibility features. Where more than one bus is being made accessible, the grantee must calculate the incremental cost increase of the entire procurement when determining if the small purchase waiver applies. For example, if $30,000 is the incremental cost for the accessibility features eligible under this program per bus (regardless of the Federal share contribution), then a procurement of three buses with a total such cost of $90,000, would qualify for the small purchase waiver. No special application to FTA would be required.

The grantee must obtain a certification from the bus or component manufacturer that all items included in the incremental cost for which the applicant is applying for funds meet Buy America requirements. The Buy America regulations can be found at http://www.fta.dot.gov/buyamerica.

3. Labor Protection

Section 3013(h) of SAFETEA-LU amended 49 U.S.C. Section 5311(j)(1) to permit the Secretary of Labor to utilize a special warranty that provides a fair and equitable arrangement to protect the interest of employees as set forth in 49 U.S.C. 5333(b). Pursuant to this authorization, the DOL amended its implementing regulations at 29 CFR part 215 (73 FR 47046, Aug. 13, 2008). On October 1, 2008, DOL began using a revised special warranty for the Section 5311 program which is appropriate for use with OTRB grants. All OTRB grants awarded after October 1, 2008 will be subject to the special warranty for labor protective arrangements under the Section 5311 program, which will be incorporated by reference in the grant agreement.

4. Planning

Applicants are encouraged to notify the appropriate State Departments of Transportation and Metropolitan Planning Organizations (MPO) in areas likely to be served by equipment made accessible through funds made available in this program. Those organizations, in turn, should take appropriate steps to inform the public, and individuals requiring fully accessible services in particular, of operators' intentions to expand the accessibility of their services. Incorporation of funded projects in the plans and transportation improvement programs of states and metropolitan areas by States and MPOs also is encouraged, but is not required.

5. Standard Assurances

The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise. Certifications and Assurances for grants to be awarded under this program in FY 2012 are included in the FTA Certifications and Assurances for FY 2012 which were published in the Federal Register of November 1, 2011, and made available for electronic signature in FTA's grants system. Every applicant must submit Certification 01, “For Each Applicant.” Each applicant for more than $100,000 must provide both Certification 01, and, 02, the “Lobbying Certification.”

6. Reporting

Post-award reporting requirements include submission of final Federal Financial Report and milestone report, or annual reports for grants remaining open at the end of each Federal fiscal year (September 30). Documentation is required for payment.

VII. Agency Contact(s)

Contact the appropriate FTA Regional Office at http://www.fta.dot.gov for proposal-specific information and issues. For general program information, contact Blenda Younger, Office of Program Management, (202) 366-4345, email: blenda.younger@dot.gov. A TDD is available at 1-800-877-8339 (TDD/FIRS).

Issued in Washington, DC, this 25th day of April 2012.
Peter Rogoff,
Administrator.

[FR Doc. 2012-10369 Filed 4-27-12; 8:45 am]

BILLING CODE P